DEPARTMENT OF ENERGY

Federal Energy Regulatory Commission

[Docket Nos. CP19-495-000, CP19-495-001]

Double E Pipeline, LLC; Notice of Request for Extension of Time

Take notice that on October 4, 2022, Double E Pipeline LLC (Double E) requested that the Federal Energy Regulatory Commission (Commission) grant an extension of time until October 15, 2024, to complete construction of, and place into service, its Double E Pipeline Project (Project), which extends from the Marlan Processing Plant, owned and operated by Pronto Midstream, LLC, a subsidiary of Matador Resources Company, in Eddy County, New Mexico, to the project's ultimate terminus in Pecos County, Texas. as authorized in the October 15, 2020 Order Issuing Certificate (Certificate Order).¹ Ordering Paragraph B(1) of the Certificate Order required Double E to complete the construction of the proposed Project facilities ² and make them available for service within two years from issuance of the order.³

¹ Double E Pipeline, LLC, 173 FERC ¶ 61,074 (2020) (Certificate Order).

² The Double E Pipeline Project consists of a 116.6-mile-long trunkline pipeline, several ancillary components including lateral pipe connecting the trunkline to processing plants; several meter stations and meters to receive gas from and deliver gas to diverse markets; and appurtenant facilities to maintain reliable performance of the pipeline.

³ Id. at ordering para. (B)(1).

Double E commenced construction of the Project on January 12, 2021.⁴ Double E has since completed construction of the Project facilities and placed the Project facilities, except for the Lobo Processing Plant and the Big Eddy Plant receipt point meter stations, into service on November 18, 2021.⁵ The Lobo Processing Plant receipt meter is currently under construction and Double E anticipates it will be completed and made available for service by December 2022. Double E is in discussions with its customer at the Big Eddy Plant receipt meter regarding the timing of those facilities and anticipates starting construction of those facilities in late 2023 or early 2024. For these reasons, Double E requests an extension to October 15, 2024, for the date to place the remaining facilities in service.

⁴ Order Granting Double E Pipeline's Request to Commence General Construction Activities Docket No. CP 14-495-000 (Jan. 4, 2020).

⁵ Notification of Project In-Service of Double E Pipeline, LLC for Double E Pipeline Project, Docket No. CP19-495-000 (Nov. 29, 2021).

This notice establishes a 15-calendar day intervention and comment period deadline. Any person wishing to comment on Double E's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,⁶ the Commission will aim to issue an order acting on the request within 45 days.⁷ The Commission will address all arguments relating to whether the applicant has demonstrated there is good cause to grant the extension.⁸ The Commission will not consider arguments that re-litigate the issuance of the certificate order, including whether the Commission properly found the project to be in the public convenience and necessity and whether the Commission's environmental analysis for the certificate complied with the National Environmental Policy Act.⁹ At the time a pipeline requests an extension of time, orders on certificates of public convenience and necessity are final and the Commission will not re-litigate their issuance.¹⁰ The OEP Director, or his or her designee, will act on all of those extension requests that are uncontested.

⁶ Contested proceedings are those where an intervenor disputes any material issue of the filing. 18 CFR 385.2201(c)(1) (2019).

⁷ Algonquin Gas Transmission, LLC, 170 FERC ¶ 61,144, at P 40 (2020).

⁸ Id. at P 40.

⁹ Similarly, the Commission will not re-litigate the issuance of an NGA section 3 authorization, including whether a proposed project is not inconsistent with the public interest and whether the Commission's environmental analysis for the permit order complied with NEPA.

¹⁰ Algonquin Gas Transmission, LLC, 170 FERC ¶ 61,144, at P 40 (2020).

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFiling” link at http://www.ferc.gov. Persons unable to file electronically should submit an original and three copies of the protest or intervention to the Federal Energy Regulatory Commission, 888 First Street NE, Washington, DC 20426.

Comment Date: 5 p.m. eastern time on October 26, 2022.

Dated: October 11, 2022.
Kimberly D. Bose,
Secretary.

[FR Doc. 2022-22475 Filed 10-14-22; 8:45 am]

BILLING CODE 6717-01-P